EXPORT-IMPORT BANK

Sunshine Act Meetings; Notice of Open Meeting of the Sub-Saharan Africa Advisory Committee of the Export-Import Bank of the United States (EXIM)

TIME AND DATE: Thursday, June 10, 2021 from 2:00-4:30 p.m. EDT.

PLACE: The meeting will be held virtually.

STATUS: Public Participation: The meeting will be open to public participation and time will be allotted for questions or comments submitted online. Members of the public may also file written statements before or after the meeting to external@exim.gov. Interested parties may register for the meeting at https://app.smartsheet.com/b/form/962a72a980114463a90ba5752d549566.

MATTERS TO BE CONSIDERED: Discussion of EXIM policies and programs designed to support the expansion of financing support for U.S. manufactured goods and services in Sub-Saharan Africa.

CONTACT PERSON FOR MORE INFORMATION: For further information, contact India Walker, External Engagement Specialist at 202-480-0062.

Joyce B. Stone,
Assistant Corporate Secretary.

[FR Doc. 2021-11437 Filed 5-26-21; 11:15 am]

BILLING CODE 6690-01-P